DEPARTMENT OF HOMELAND SECURITY

Federal Emergency Management Agency

Agency Information Collection Activities: Submission for OMB Review; Comment Request

AGENCY: Federal Emergency Management Agency, DHS.

ACTION: Notice; 30-day notice and request for comments New Collection, FEMA Form 142-1-1.

SUMMARY: The Federal Emergency Management Agency (FEMA) has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments FEMA will use.

Collection of Information

Title: Integrated Public Alert and Warning System (IPAWS) Inventory and Evaluation Survey.

OMB Number: 1660-NW40.

Abstract: FEMA will be conducting an inventory, evaluation and assessment of the capabilities of Federal, State, local, and tribal government alert and warning systems. The IPAWS Inventory and Evaluation Survey will collect data that will facilitate the integration of public alert and warning systems. It will also reduce Federal planning costs by leveraging existing State systems.

Affected Public: State, local or tribal government.

Number of Respondents: 1,932.

Estimated Time per Respondent: 5 hours.

Estimated Total Annual Burden Hours: 9,660.

Frequency of Response: Once annually.

Comments: Interested persons are invited to submit written comments on the proposed information collection to the Office of Information and Regulatory Affairs, Office of Management and Budget. Comments should be addressed to Desk Officer for the Department of Homeland Security, Federal Emergency Management Agency, and sent via electronic mail to oira.submission@omb.eop.gov or faxed to (202) 395-6974. Comments must be submitted on or before September 24, 2008.

FOR FURTHER INFORMATION CONTACT: Requests for additional information or copies of the information collection should be made to Director, Records Management Division, 500 C Street, SW., Drop Box Room 301, Washington, DC 20472, facsimile number (202) 646-3347, or e-mail address FEMA-Information-Collections@dhs.gov.

Dated: August 15, 2008.
John A. Sharetts-Sullivan,
Director, Records Management Division, Office of Management and Budget, Federal Emergency Management Agency, Department of Homeland Security.

[FR Doc. E8-19606 Filed 8-22-08; 8:45 am]

BILLING CODE 9110-14-P